DEPARTMENT OF HOUSING AND URBAN DEVELOPMENT

[Docket No. FR-5203-N-01]

Section 3 Complaint Processing Functions

AGENCY: Office of the Assistant Secretary for Fair Housing and Equal Opportunity, HUD.

ACTION: Notice.

SUMMARY: This notice announces a change in the investigation of complaints filed pursuant to Section 3 of the Housing and Urban Development Act of 1968.

FOR FURTHER INFORMATION CONTACT: Staci Gilliam Hampton, Director, Economic Opportunity Division; Office of Fair Housing and Equal Opportunity; Department of Housing and Urban Development; 451 Seventh Street, SW., Washington, DC 20410-2000; telephone (202) 402-3468 (this is not a toll-free number). Hearing- and speech-impaired individuals may access this telephone number via TTY by calling the toll-free Federal Information Relay Service at (800) 877-8339.

SUPPLEMENTARY INFORMATION: On November 21, 2007, the Assistant Secretary for Fair Housing and Equal Opportunity (FHEO) transferred the responsibility for investigating complaints filed pursuant to Section 3 of the Housing and Urban Development Act of 1968 (Section 3) from FHEO in Washington, DC, to each of the ten FHEO region offices. (See the delegation of authority published in the Federal Register on December 17, 2007 at 72 FR 71429.) All Section 3 monitoring and enforcement responsibilities will remain in FHEO at HUD headquarters in Washington, DC.

General Information: All submissions of HUD Form 958, Complaint Register Under Section 3 of the Housing and Urban Development Act of 1968, shall be sent directly to the appropriate FHEO region office for complaint processing and investigation in accordance with the Section 3 regulations found at 24 CFR part 135. (Please note that a complainant need not submit a Form 958 in order to file a Section 3 complaint. So long as the complainant provides HUD with the information required under 24 CFR 135.76 and signs the submission, a form is not necessary.)

Section 3 matters not directly related to the investigation of complaints (including, but not limited to, compliance reviews in accordance with 24 CFR 135.74), shall be directed to the Director of the Economic Opportunity Division at the address and telephone number listed above.

A list of FHEO Region offices, contact information, and geographic jurisdictions is provided below:

Boston Regional Office of Fair Housing and Equal Opportunity

(Covers the following states: Connecticut, Maine, Massachusetts, New Hampshire, Rhode Island, and Vermont)

U.S. Department of Housing and Urban Development, Boston Regional Office of Fair Housing and Equal Opportunity, 10 Causeway Street, Room 308, Boston, MA 02222-1092

Telephone: 617-994-8300, 800-827-5005

Facsimile: 617-565-7313

TTY/TDD: 617-565-5453

E-mail: Complaints_Office_01@hud.gov

New York Regional Office of Fair Housing and Equal Opportunity

(Covers the following states: New York and New Jersey)

U.S. Department of Housing and Urban Development, New York Regional Office of Fair Housing and Equal Opportunity, 26 Federal Plaza, New York, NY 10278-0068

Telephone: 212-264-1290, 800-496-4294

Facsimile: 212-264-9829

TTY/TDD: 212-264-0927

E-mail: Complaints_Office_02@hud.gov

Philadelphia Regional Office of Fair Housing and Equal Opportunity

(Covers the following states: Delaware, District of Columbia, Maryland, Pennsylvania, Virginia, and West Virginia)

U.S. Department of Housing and Urban Development, Philadelphia Regional Office of Fair Housing and Equal Opportunity, 100 Penn Square East, Philadelphia, PA 19107-3390

Telephone: 215-656-0662, 888-799-2085

Facsimile: 215-656-3449

TTY/TDD: 215-656-3450

E-mail: Complaints_Office_03@hud.gov

Atlanta Regional Office of Fair Housing and Equal Opportunity

(Covers the following states: Alabama, Puerto Rico, Florida, Georgia, Kentucky, Mississippi, North Carolina, South Carolina, and Tennessee)

U.S. Department of Housing and Urban Development, Atlanta Regional Office of Fair Housing and Equal Opportunity, Five Points Plaza Bldg, 40 Marietta Street, Atlanta, GA 30303-3388

Telephone: 404-331-5140, 800-440-8091

Facsimile: 404-331-1021

TTY/TDD: 404-730-2654

E-mail: Complaints_Office_04@hud.gov

Chicago Regional Office of Fair Housing and Equal Opportunity

(Covers the following states: Illinois, Indiana, Michigan, Minnesota, Ohio, and Wisconsin)

U.S. Department of Housing and Urban Development, Chicago Regional Office of Fair Housing and Equal Opportunity, 77 West Jackson Boulevard, Room 2101, Chicago, IL 60604-3507

Telephone: 312-353-7776, 800-765-9372

Facsimile: 312-886-2837

TTY/TDD: 312-353-7143

E-mail: Complaints_Office_05@hud.gov

Fort Worth Regional Office of Fair Housing and Equal Opportunity

(Covers the following states: Arkansas, Louisiana, New Mexico, Oklahoma, and Texas)

U.S. Department of Housing and Urban Development, Forth Worth Regional Office of Fair Housing and Equal Opportunity, 801 Cherry Street, P.O. Box 2905, Fort Worth, TX 76113-2905

Telephone: 817-978-5900, 888-560-8913

Facsimile: 817-978-5876

TTY/TDD: 817-978-5595

E-mail: Complaints_Office_06@hud.gov

Kansas City Regional Office of Fair Housing and Equal Opportunity

(Covers the following states: Iowa, Kansas, Missouri, and Nebraska)

U.S. Department of Housing and Urban Development, Kansas City Regional Office of Fair Housing and Equal Opportunity, 400 State Avenue, Kansas City, KS 66101-2406

Telephone: 913-551-6958, 800-743-5323

Facsimile: 913-551-6856

TTY/TDD: 913-551-6972

E-mail: Complaints_Office_07@hud.gov

Denver Regional Office of Fair Housing and Equal Opportunity

(Covers the following states: Colorado, Montana, North Dakota, South Dakota, Utah and Wyoming)

U.S. Department of Housing and Urban Development, Denver Regional Office of Fair Housing and Equal Opportunity, 1670 Broadway, 22nd Floor, Denver, CO 80202

Telephone: 303-672-5437, 800-877-7353

Facsimile: 303-672-5026

TTY/TDD: 303-672-5248

E-mail: Complaints_Office_08@hud.gov

San Francisco Regional Office of Fair Housing and Equal Opportunity

(Covers the following states: Arizona, California, Hawaii and Nevada)

U.S. Department of Housing and Urban Development, San Francisco Regional Office of Fair Housing and Equal Opportunity, 600 Harrison Street, 3rd Floor, San Francisco, CA 94107

Telephone: 415-489-6536, 800-347-3739

Facsimile: 415-489-6560

TTY/TDD: 415-489-6564

E-mail: Complaints_Office_09@hud.gov

Seattle Regional Office of Fair Housing and Equal Opportunity

(Covers the following states: Alaska, Idaho, Oregon, and Washington)

U.S. Department of Housing and Urban Development, Seattle Regional Office of Fair Housing and Equal Opportunity, 909 First Avenue, Seattle, WA 98104-1000

Telephone: 206-220-5170, 800-877-0246

Facsimile: 206-220-5447

TTY/TDD: 206-220-5185

E-mail: Complaints_Office_10@hud.gov

Dated: March 13, 2008.
Kim Kendrick,
Assistant Secretary for Fair Housing and Equal Opportunity.

[FR Doc. E8-5620 Filed 3-19-08; 8:45 am]

BILLING CODE 4210-67-P